DEPARTMENT OF THE TREASURY

Office of the Comptroller of the Currency

FEDERAL RESERVE SYSTEM

FEDERAL DEPOSIT INSURANCE CORPORATION

Proposed Agency Information Collection Activities; Comment Request

Correction

In notice document 2016-19268, appearing on pages 54190 through 54216 in the issue of Monday, August 15, 2016, make the following corrections:

1. On page 54213, at the top of the page, above the table labelled Data Items Removed, insert the heading “Appendix B” and, on the following line, insert the heading “FFIEC 031: Data Items Removed or Change in Reporting Threshold”.

2. On page 54214, above the table labelled Data Items Removed, insert the heading “Appendix C” and, on the following line, insert the heading “FFIEC 041: Data Items Removed or Change in Reporting Threshold”.

[FR Doc. C1-2016-19268 Filed 8-19-16; 8:45 am]

BILLING CODE 1505-01-D